DEPARTMENT OF EDUCATION

DEPARTMENT OF HEALTH AND HUMAN SERVICES

Applications for New Awards; Race to the Top—Early Learning Challenge

AGENCIES: Department of Education and Department of Health and Human Services.

ACTION: Notice.

Overview Information

Race to the Top—Early Learning Challenge Notice inviting applications for new awards for fiscal year (FY) 2011.

Catalog of Federal Domestic Assistance (CFDA) Number: 84.412.

Dates: Applications Available: August 26, 2011.

Date of Meetings for Potential Applicants: To assist States in preparing the application and to respond to questions, the Department of Education (ED) and the Department of Health and Human Services (HHS) (collectively, the Departments) intend to host a Webinar with potential applicants on September 1, 2011, to review the requirements, selection criteria, and priorities for this competition. The Departments also plan to host a Technical Assistance Planning Workshop for potential applicants on September 13, 2011, in Washington, DC. Registration information and additional details for the September 1, 2011, Webinar; the September 13, 2011, workshop; and any other technical assistance events are on the Race to the Top-Early Learning (RTT-ELC) Web site at http://www.ed.gov/programs/racetothetop-earlylearningchallenge.

Deadline for Transmittal of Applications: October 19, 2011.

Deadline for Intergovernmental Review: December 19, 2011.

Full Text of Announcement

I. Funding Opportunity Description

Purpose of Program: The purpose of the RTT-ELC program is to improve the quality of early learning and development and close the achievement gap for children with high needs. The RTT-ELC grant competition focuses on improving early learning and development for young children by supporting States' efforts to increase the number and percentage of low-income and disadvantaged children in each age group of infants, toddlers, and preschoolers enrolled in high-quality early learning and development programs; and designing and implementing an integrated system of high-quality early learning and development programs and services.

Background: A critical focus of the Obama Administration is supporting America's youngest learners and helping ensure that children, especially young children with high needs, such as those who are low-income, English learners, and children with disabilities or developmental delays, enter kindergarten ready to succeed in school and in life. A robust body of research demonstrates that high-quality early learning and development programs and services can improve young children's health, social emotional and cognitive outcomes, enhance school readiness, and help close the wide school readiness gap 1 2 that exists between children with high needs and their peers at the time they enter kindergarten.3 4

¹ Camilli, G., Vargas, S., Ryan, S., & Barnett, W. S. (2010). Meta-analysis of the effects of early education interventions on cognitive and social development. Teachers College Record, 112(3), 579-620.

² Reynolds, A.J., Temple, J.A., Ou, S., Arteaga, I.A., & White, B.A.B. (2011). School-based early childhood education and age-28 well-being: effects by timing, dosage, and subgroups. Science, Retrieved from http://www.sciencemag.org/content/early/2011/06/08/science.1203618.abstract_doi:_10.1126/science.1203618.

³ Princiotta, D., Flanagan, K. D., and Germino Hausken, E. (2006). Fifth Grade: Findings From The Fifth-Grade Follow-up of the Early Childhood Longitudinal Study, Kindergarten Class of 1998-99 (ECLS-K). (NCES 2006-038) U.S. Department of Education.

⁴ Halle, T., Forry, N., Hair, E., Perper, K., Wandner, L., Wessel, J., & Vick, J. (2009). Disparities in Early Learning and Development: Lessons from the Early Childhood Longitudinal Study—Birth Cohort (ECLS-B). Washington, DC: Child Trends.

To address this school readiness gap, the Administration has identified, as high priorities, strengthening the quality of early learning and development programs and increasing access to high-quality early learning programs for all children, including those with high needs. This commitment to early education is reflected in the RTT-ELC competition that we are announcing in this notice.

On May 25, 2011, Secretaries Duncan and Sebelius announced the RTT-ELC, a new $500 million State-level grant competition to be held in 2011 and authorized under the American Recovery and Reinvestment Act of 2009 (ARRA), as amended by section 1832(b) of the Department of Defense and Full-Year Continuing Appropriations Act, 2011. The Departments are administering this competition jointly. At its core, RTT-ELC demonstrates a strong commitment by the Administration to stimulate a national effort to make sure all children enter kindergarten ready to succeed. Through the RTT-ELC, the Administration seeks to help close the achievement gap between children with high needs and their peers by supporting State efforts to build strong systems of early learning and development that provide increased access to high-quality programs for the children who need it most. This competition represents an unprecedented opportunity for States to focus deeply on their early learning and development systems for children from birth through age five. It is an opportunity to build a more unified approach to supporting young children and their families—an approach that increases access to high-quality early learning and development programs and services, and helps ensure that children enter kindergarten with the skills, knowledge, and dispositions toward learning they need to be successful.

The RTT-ELC competition does not create new early learning and development programs, nor is it a vehicle for maintenance of the status quo. Rather, the RTT-ELC program will support States that demonstrate their commitment to integrating and aligning resources and policies across all of the State agencies that administer public funds related to early learning and development. It will further provide incentives to the States that commit to and implement high-quality early learning and development programs statewide.

As explained more fully elsewhere in this notice, given the tight timeline for obligating funds and in order to provide States maximum time to prepare their applications for this competition, notice-and-comment rulemaking is being waived for this competition. Specifically, we are waiving rulemaking for the priorities, requirements, definitions, and selection criteria for this new competition under section 437(d)(1) of the General Education Provisions Act (GEPA). However, we have solicited public participation in two important ways as we developed an approach to conducting and implementing this competition. First, we invited the public to provide general input on the program from May 25 through June 30 on the ED.gov Blog. In response to this invitation, we received a total of 199 responses, which we considered in our development of this notice. From July 1 to July 11, we posted on ED's Web site a draft Executive Summary of the competition, which included draft competition priorities, requirements, definitions, and selection criteria, and we invited public input on each of these elements of the competition. During this period, we received 349 responses reflecting the viewpoints of a variety of individuals and early childhood, health, and education organizations. These we also considered in our development of this notice.

Current State Early Learning and Development Systems

Many early learning and development programs and services co-exist within States, including Head Start/Early Head Start programs, the Child Care and Development Fund (CCDF) program (pursuant to the Child Care and Development Block Grant Act (42 U.S.C. 9858 et seq.)), State-funded preschool, programs authorized under section 619 of part B of the Individuals with Disabilities Education Act (IDEA) and part C of IDEA, and other State and locally supported programs. Each of these programs has its own funding stream and accompanying requirements, standards, expectations, policies, and procedures. Each also has its own unique strengths and makes unique contributions to young children and their families. For States, the challenges to be addressed by RTT-ELC are to sustain and build on the strengths of these programs, acknowledge and appreciate their differences, reduce inefficiency, improve quality, and ultimately deliver a coordinated set of services and experiences that support young children's success in school and beyond.

The RTT-ELC Vision for State Early Learning and Development Systems

Through the RTT-ELC competition, we intend to fund applications that demonstrate a State's commitment and capacity to building a statewide system that raises the quality of early learning and development programs so that all children receive the support they need to enter kindergarten ready to succeed. Just as career and college readiness were at the heart of ED's Race to the Top Phase 1 and Phase 2 competitions, a commitment to building school readiness for children entering kindergarten is at the heart of this competition.

As was the case with Race to the Top Phase 1 and Phase 2, the bar to receive an RTT-ELC grant will be high. And just as those first two phases of Race to the Top were organized around State commitments to four specific reform assurances articulated in the ARRA, RTT-ELC is organized around five key areas of reform. These five key areas represent the foundation of an effective early learning and development reform agenda that is focused on school readiness and ongoing academic success. They are central to this competition's priorities, requirements, and selection criteria, and are as follows:

(A) Successful State Systems;

(B) High-Quality, Accountable Programs;

(C) Promoting Early Learning and Development Outcomes for Children;

(D) A Great Early Childhood Education Workforce; and

(E) Measuring Outcomes and Progress.

The first two of these, (A) and (B), are core areas of focus for this competition. As such, they are referred to throughout this notice as “Core Areas,” and applicants are required to respond to all selection criteria under these Core Areas. The reform areas in (C), (D), and (E) are areas where applicants will direct targeted attention to specific activities that are relevant to their State's context. In this notice, we refer to these areas as “Focused Investment Areas,” and applicants are required to address each Focused Investment Area but not all of the selection criteria under them. A discussion of the five key areas of reform follows.

A. Successful State Systems

Successful State early learning and development systems are built on broad-based stakeholder participation and effective governance structures. They are guided by clearly articulated goals and strategies designed to deliver a coordinated set of programs, policies, and services that are responsive to the needs of children and families and effectively prepare young children for school success. The RTT-ELC competition will support States that demonstrate a commitment to creating and implementing a successful statewide early learning and development system and that effectively organize and align that system to provide the diversity of services and supports needed by children and families. Such a system can provide continuity and consistent levels of quality across delivery mechanisms and levels of care and education. Thus, under the priorities established for this competition, States must propose and implement ambitious plans for successful State systems of early learning and development that will have broad impact and can—

• Improve program quality and outcomes for young children;

• Increase the number of children with high needs attending high-quality early learning and development programs; and

• Help close the achievement gap between children with high needs and their peers by supporting efforts to increase kindergarten readiness.

B. High-Quality, Accountable Programs

The RTT-ELC competition will support States that develop a common set of program standards used statewide. This will help align programs such as Head Start, CCDF, IDEA, and Title I of the Elementary and Secondary Act (ESEA), and State-funded preschool to create a more unified statewide system of early learning and development. In addition, each State grantee must design and implement a tiered quality rating and improvement system that is based on consistent and demanding statewide program standards and that establishes meaningful program ratings. RTT-ELC promotes broad participation in the State's tiered quality rating and improvement system across a range of programs, active program improvement, and the publication of program ratings so that families can make informed decisions about which programs can best serve the needs of their children.

C. Promoting Early Learning and Development Outcomes for Children

The RTT-ELC competition is based on the premise that effective programs and services for young children must be built on a set of early learning and development standards that define what children should know and be able to do at different stages of development. These standards provide guidelines, articulate developmental milestones, and set expectations for the healthy growth and development of young children. This competition rewards States that will implement high-quality early learning and development standards and comprehensive systems of assessments aligned with these standards. The implementation of these standards and assessments will ensure that early childhood educators have the information they need to understand and support young children's growth and development across a broad range of domains so that significantly more young children enter kindergarten ready to succeed.

Improving early learning and development outcomes also requires that children are healthy and supported by their families. Services that address health and family supports are thus critical, and health and family engagement are key elements in high-quality early learning and development programs. RTT-ELC is designed to support States that focus on increasing access to quality programs and services that promote health and engage families in the care and education of their young children.

D. A Great Early Childhood Education Workforce

In early learning and development settings, nothing matters more to children's success than the adults caring for and teaching them, and the RTT-ELC competition acknowledges the importance of a strong early childhood workforce. Ensuring that children are ready for success in kindergarten depends on well-trained adults who have acquired the necessary knowledge, skills, and abilities to effectively support the learning and development of every child. Thus, the competition will reward States that work closely with postsecondary institutions and other parties to define a set of workforce competencies that are tied to the State's early learning and development standards. Further, the competition encourages States to increase retention and improve educator quality by supporting their workforce with professional development, career advancement opportunities, differentiated compensation, and incentives to improve their knowledge, skills, and abilities.

E. Measuring Outcomes and Progress

Collecting, organizing, and understanding evidence of young children's progress across a range of domains is essential to ensuring that early learning and development programs are of high quality and that they meet the needs of every child. States are therefore encouraged to implement comprehensive data systems and to use the data to improve instruction, practices, services, and policies. In addition, through both a selection criterion and a competitive preference priority, States will be rewarded for implementing kindergarten entry assessments statewide that provide information across all domains of early learning and development, inform efforts to close the school-readiness gap, and inform instruction in the early elementary school grades.

By organizing this program around the five key reform areas described in this section, the RTT-ELC competition will help lead the way for States to challenge and rethink the status quo. Not every State will receive an RTT-ELC award through this competition, but every State can use this competition as an opportunity to commit to comprehensively strengthening its early learning and development system and ensuring that more children, including those with high needs, have access to high-quality early learning and development programs and services.

Priorities: This notice contains five (5) priorities: One (1) absolute priority, two (2) competitive preference priorities, and two (2) invitational priorities. These priorities are being established for the FY 2011 grant competition in accordance with section 437(d)(1) of GEPA, 20 U.S.C. 1232(d)(1).

Absolute Priority: For FY 2011, this priority is an absolute priority. Under 34 CFR 75.105(c)(3), we consider only applications that meet this priority. Applicants do not write a separate response to this priority. Rather, they will address this priority throughout their responses to the selection criteria as indicated below. A State meets the absolute priority if a majority of reviewers determines that the State has met the absolute priority.

Priority 1: Absolute Priority—Promoting School Readiness for Children with High Needs.

To meet this priority, the State's application must comprehensively and coherently address how the State will build a system that increases the quality of Early Learning and Development Programs ⁵ for Children with High Needs so that they enter kindergarten ready to succeed.

⁵ Defined terms are used throughout the notice and are indicated by capitalization.

The State's application must demonstrate how it will improve the quality of Early Learning and Development Programs by integrating and aligning resources and policies across Participating State Agencies and by designing and implementing a common, statewide Tiered Quality Rating and Improvement System. In addition, to achieve the necessary reforms, the State must make strategic improvements in those specific reform areas that will most significantly improve program quality and outcomes for Children with High Needs. Therefore, the State must address those criteria from within each of the Focused Investment Areas (sections (C) Promoting Early Learning and Development Outcomes for Children, (D) A Great Early Childhood Education Workforce, and (E) Measuring Outcomes and Progress) that it believes will best prepare its Children with High Needs for kindergarten success.

Competitive Preference Priorities: For FY 2011, these priorities are competitive preference priorities. Under 34 CFR 75.105(c)(2)(i), up to ten (10) additional points will be awarded to an application depending on the extent to which the application meets Competitive Preference Priority 2, and ten (10) additional points (all or nothing) to an application that meets Competitive Preference Priority 3. Applicants that choose to address Competitive Preference Priority 2 must provide a narrative in the space provided in the application, and applicants that choose to address Competitive Preference Priority 3 must do so in Table ⁶ (A)(1)-12, or by writing to selection criterion (E)(1).

⁶ Tables referenced in this notice are included in the application package.

These priorities are:

Priority 2: Competitive Preference Priority—Including all Early Learning and Development Programs in the Tiered Quality Rating and Improvement System.

Competitive Preference Priority 2 is designed to increase the number of children from birth to kindergarten entry who are participating in programs that are governed by the State's licensing system and quality standards, with the goal that all licensed or State-regulated programs will participate. The State will receive points for this priority based on the extent to which the State has in place, or has a High-Quality Plan to implement no later than June 30, 2015—

(a) A licensing and inspection system that covers all programs that are not otherwise regulated by the State and that regularly care for two or more unrelated children for a fee in a provider setting; provided that if the State exempts programs for reasons other than the number of children cared for, the State may exclude those entities and reviewers will score this priority only on the basis of non-excluded entities; and

(b) A Tiered Quality Rating and Improvement System in which all licensed or State-regulated Early Learning and Development Programs participate.

Priority 3: Competitive Preference Priority—Understanding the Status of Children's Learning and Development at Kindergarten Entry.

To meet this priority, the State must, in its application—

(a) Demonstrate that it has already implemented a Kindergarten Entry Assessment that meets selection criterion (E)(1) by indicating that all elements in Table (A)(1)-12 are met; or

(b) Address selection criterion (E)(1) and earn a score of at least 70 percent of the maximum points available for that criterion.

Note: A State will earn all ten (10) competitive preference priority points if a majority of reviewers determines that the State has met the competitive preference priority. A State earns zero points if a majority of reviewers determines that the applicant has not met the competitive preference priority. Under option (a) above, an applicant does not earn competitive preference points if the reviewers determine that the State has not implemented a Kindergarten Entry Assessment that meets selection criterion (E)(1). Under option (b) above, an applicant does not earn competitive preference points if the State earns a score of less than 70 percent of the maximum points available for selection criterion (E)(1).

Invitational Priorities: For FY 2011, these priorities are invitational priorities. With an invitational priority, we signal our interest in receiving applications that meet the priority but, under 34 CFR 75.105(c)(1), we do not give an application that meets an invitational priority preference over other applications.

Priority 4: Invitational Priority—Sustaining Program Effects in the Early Elementary Grades.

The Departments are particularly interested in applications that describe the State's High-Quality Plan to sustain and build upon improved early learning outcomes throughout the early elementary school years, including by—

(a) Enhancing the State's current standards for kindergarten through grade 3 to align them with the Early Learning and Development Standards across all Essential Domains of School Readiness;

(b) Ensuring that transition planning occurs for children moving from Early Learning and Development Programs to elementary schools;

(c) Promoting health and family engagement, including in the early grades;

(d) Increasing the percentage of children who are able to read and do mathematics at grade level by the end of the third grade; and

(e) Leveraging existing Federal, State, and local resources, including but not limited to funds received under Title I and Title II of ESEA, as amended, and IDEA.

Priority 5: Invitational Priority—Encouraging Private-Sector Support.

The Departments are particularly interested in applications that describe how the private sector will provide financial and other resources to support the State and its Participating State Agencies or Participating Programs in the implementation of the State Plan.

Application Requirements:

Each applicant must meet the following application requirements:

(a) The State's application must be signed by the Governor or an authorized representative; an authorized representative from the Lead Agency; and an authorized representative from each Participating State Agency. The State must provide the required signatures in section IV, Application Assurances and Certifications of the application.

(b) The State must submit a certification from the State Attorney General or an authorized representative that the State's description of, and statements and conclusions in its application concerning, State law, statute, and regulation are complete and accurate and constitute a reasonable interpretation of State law, statute, and regulation. The State must provide this certification in section IV, Application Assurances and Certifications of the application.

(c) The State must complete the budget spreadsheets that are provided in the application package and submit the completed spreadsheet as part of its application. These spreadsheets should be included on the CD or DVD that the State submits as its application.

Note: The budget spreadsheets will be used by the Departments for budget reviews. However, the reviewers will not judge or score these budget spreadsheets. Reviewers will limit their evaluation of the State's response to (A)(4)(b) to the information provided by the State in the budget section of the application (see section VIII, Budget).

(d) The State must submit preliminary scopes of work for each Participating State Agency as part of the executed Memorandum of Understanding (MOU) or other binding agreement. (See Appendix C in this notice). Each preliminary scope of work must describe the portions of the State's proposed plans that the Participating State Agency is agreeing to implement. If a State is awarded an RTT-ELC grant, the State will have up to 90 days to complete final scopes of work for each Participating State Agency. (See section (k) of the Program Requirements in this notice.)

(e) The State must include a budget that details how it will use grant funds awarded under this competition, and funds from other Federal, State, private, and local sources to achieve the outcomes of the State Plan (as described in selection criterion (A)(4)(a)), and how the State will use funds awarded under this program to—

(1) Achieve its targets for increasing the number and percentage of Early Learning and Development Programs that are participating in the State's Tiered Quality Rating and Improvement System (as described in selection criterion (B)(2)(c)); and

(2) Achieve its targets for increasing the number and percentage of Children with High Needs who are enrolled in Early Learning and Development Programs that are in the top tiers of the State's Tiered Quality Rating and Improvement System (as described in selection criterion (B)(4)(c)).

(f) The State must provide an overall summary for the State Plan and a rationale for why it has chosen to address the selected criteria in each Focused Investment Area, including—

• How the State's choices build on its progress to date in each Focused Investment Area (as outlined in Tables (A)(1)6-13 and the narrative under (A)(1)); and

• Why these selected criteria will best achieve the State's ambitious yet achievable goals for improving program quality, improving outcomes for Children with High Needs statewide, and closing the readiness gap between Children with High Needs and their peers.

(g) The State, within each Focused Investment Area, must select and address—

• Two or more selection criteria within Focused Investment Area (C) Promoting Early Learning and Development Outcomes for Children; and

• One or more selection criteria within Focused Investment Areas (D) A Great Early Childhood Education Workforce and (E) Measuring Outcomes and Progress.

(h) Where the State is submitting a High-Quality Plan, the State must include in its application a detailed plan that is feasible and has a high probability of successful implementation and includes, but need not be limited to—

(1) The key goals;

(2) The key activities to be undertaken; the rationale for the activities; and, if applicable, where in the State the activities will be initially implemented, and where and how they will be scaled up over time to eventually achieve statewide implementation;

(3) A realistic timeline, including key milestones, for implementing each key activity;

(4) The party or parties responsible for implementing each activity and other key personnel assigned to each activity;

(5) Appropriate financial resources to support successful implementation of the plan;

(6) The information requested as supporting evidence, if any, together with any additional information the State believes will be helpful to peer reviewers in judging the credibility of the plan;

(7) The information requested in the performance measures, where applicable;

(8) How the State will address the needs of the different types of Early Learning and Development Programs, if applicable; and

(9) How the State will meet the needs of Children with High Needs, as well as the unique needs of special populations of Children with High Needs.

Program Requirements: If a State is awarded an RTT-ELC grant, it must meet the following requirements:

(a) The State must continue to participate in the programs authorized under section 619 of part B of IDEA and part C of IDEA; in the CCDF program; and in the Maternal, Infant, and Early Childhood Home Visiting (MIECHV) program (pursuant to section 511 of Title V of the Social Security Act, as added by Section 2951 of the Affordable Care Act of 2010 (Pub. L. 111-148)) for the duration of the grant.

(b) The State is prohibited from spending funds from the grant on the direct delivery of health services.

(c) The State must participate in RTT-ELC grantee technical assistance activities facilitated by ED or HHS, individually or in collaboration with other State grantees in order to share effective program practices and solutions and collaboratively solve problems, and must set aside $400,000 from its grant funds for this purpose.

(d) The State must—

(1) Comply with the requirements of any evaluation sponsored by ED or HHS of any of the State's activities carried out with the grant;

(2) Comply with the requirements of any cross-State evaluation—as part of a consortium of States—of any of the State's proposed reforms, if that evaluation is coordinated or funded by ED or HHS, including by using common measures and data collection instruments and collecting data necessary to the evaluation;

(3) Together with its independent evaluator, if any, cooperate with any technical assistance regarding evaluations provided by ED or HHS. The purpose of this technical assistance will be to ensure that the validation of the State's Tiered Quality Rating and Improvement System and any other evaluations conducted by States or their independent evaluators, if any, are of the highest quality and to encourage commonality in approaches where such commonality is feasible and useful;

(4) Submit to ED and HHS for review and comment its design for the validation of its Tiered Quality Rating and Improvement System (as described in selection criteria (B)(5)) and any other evaluations of activities included in the State Plan, including any activities that are part of the State's Focused Investment Areas, as applicable; and

(5) Make widely available through formal (e.g., peer-reviewed journals) or informal (e.g., newsletters) mechanisms, and in print or electronically, the results of any evaluations it conducts of its funded activities.

(e) The State must have a longitudinal data system that includes the 12 elements described in section 6401(e)(2)(D) of the America COMPETES Act by the date required under the State Fiscal Stabilization Fund (SFSF) grant and in accordance with Indicator (b)(1) of its approved SFSF plan.

(f) The State must comply with the requirements of all applicable Federal, State, and local privacy laws, including the requirements of the Family Educational Rights and Privacy Act, the Health Insurance Portability Accountability Act, and the privacy requirements in IDEA, and their applicable regulations.

(g) The State must ensure that the grant activities are implemented in accordance with all applicable Federal, State, and local laws.

(h) The State must provide researchers with access, consistent with the requirements of all applicable Federal State, and local privacy laws, to data from its Tiered Quality Rating and Improvement System and from the Statewide Longitudinal Data System and the State's coordinated early learning data system (if applicable) so that they can analyze the State's quality improvement efforts and answer key policy and practice questions.

(i) Unless otherwise protected as proprietary information by Federal or State law or a specific written agreement, the State must make any work (e.g., materials, tools, processes, systems) developed under its grant freely available to the public, including by posting the work on a Web site identified or sponsored by ED or HHS. Any Web sites developed under this grant must meet government or industry-recognized standards for accessibility.

(j) Funds made available under an RTT-ELC grant must be used to supplement, not supplant, any Federal, State, or local funds that, in the absence of the funds awarded under this grant, would be available for increasing access to and improving the quality of Early Learning and Development Programs.

(k) For a State that is awarded an RTT-ELC grant, the State will have up to 90 days from the grant award notification date to complete final scopes of work for each Participating State Agency. These final scopes of work must contain detailed work plans that are consistent with their corresponding preliminary scopes of work and with the State's grant application, and must include the Participating State Agency's specific goals, activities, timelines, budgets, key personnel, and annual targets for key performance measures for the portions of the State's proposed plans that the Participating State Agency is agreeing to implement.

Program Definitions:

Children with High Needs means children from birth through kindergarten entry who are from Low-Income families or otherwise in need of special assistance and support, including children who have disabilities or developmental delays; who are English learners; who reside on “Indian lands” as that term is defined by section 8013(6) of the ESEA; who are migrant, homeless, or in foster care; and other children as identified by the State.

Common Education Data Standards (CEDS) means voluntary, common standards for a key set of education data elements (e.g., demographics, program participation, transition, course information) at the early learning, K-12, and postsecondary levels developed through a national collaborative effort being led by the National Center for Education Statistics. CEDS focus on standard definitions, code sets, and technical specifications of a subset of key data elements and are designed to increase data interoperability, portability, and comparability across Early Learning and Development Programs and agencies, States, local educational agencies, and postsecondary institutions.

Comprehensive Assessment System means a coordinated and comprehensive system of multiple assessments, each of which is valid and reliable for its specified purpose and for the population with which it will be used, that organizes information about the process and context of young children's learning and development in order to help Early Childhood Educators make informed instructional and programmatic decisions and that conforms to the recommendations of the National Research Council reports on early childhood.

A Comprehensive Assessment System includes, at a minimum—

(a) Screening Measures;

(b) Formative Assessments;

(c) Measures of Environmental Quality; and

(d) Measures of the Quality of Adult-Child Interactions.

Data System Oversight Requirements means policies for ensuring the quality, privacy, and integrity of data contained in a data system, including—

(a) A data governance policy that identifies the elements that are collected and maintained; provides for training on internal controls to system users; establishes who will have access to the data in the system and how the data may be used; sets appropriate internal controls to restrict access to only authorized users; sets criteria for determining the legitimacy of data requests; establishes processes that verify the accuracy, completeness, and age of the data elements maintained in the system; sets procedures for determining the sensitivity of each inventoried element and the risk of harm if those data were improperly disclosed; and establishes procedures for disclosure review and auditing; and

(b) A transparency policy that informs the public, including families, Early Childhood Educators, and programs, of the existence of data systems that house personally identifiable information, explains what data elements are included in such a system, enables parental consent to disclose personally identifiable information as appropriate, and describes allowable and potential uses of the data.

Early Childhood Educator means any professional working in an Early Learning and Development Program, including but not limited to center-based and family child care providers; infant and toddler specialists; early intervention specialists and early childhood special educators; home visitors; related services providers; administrators such as directors, supervisors, and other early learning and development leaders; Head Start teachers; Early Head Start teachers; preschool and other teachers; teacher assistants; family service staff; and health coordinators.

Early Learning and Development Program means any (a) State-licensed or State-regulated program or provider, regardless of setting or funding source, that provides early care and education for children from birth to kindergarten entry, including, but not limited to, any program operated by a child care center or in a family child care home; (b) preschool program funded by the Federal Government or State or local educational agencies (including any IDEA-funded program); (c) Early Head Start and Head Start program; and (d) a non-relative child care provider who is not otherwise regulated by the State and who regularly cares for two or more unrelated children for a fee in a provider setting. A State should include in this definition other programs that may deliver early learning and development services in a child's home, such as the Maternal, Infant and Early Childhood Home Visiting; Early Head Start; and part C of IDEA.⁷

⁷ Note: Such home-based programs and services will most likely not participate in the State's Tiered Quality Rating and Improvement System unless the State has developed a set of Tiered Program Standards specifically for home-based programs and services.

Early Learning and Development Standards means a set of expectations, guidelines, or developmental milestones that—

(a) Describe what all children from birth to kindergarten entry should know and be able to do and their disposition toward learning;

(b) Are appropriate for each age group (e.g., infants, toddlers, and preschoolers); for English learners; and for children with disabilities or developmental delays;

(c) Cover all Essential Domains of School Readiness; and

(d) Are universally designed and developmentally, culturally, and linguistically appropriate.

Early Learning Intermediary Organization means a national, statewide, regional, or community-based organization that represents one or more networks of Early Learning and Development Programs in the State and that has influence or authority over them. Such Early Learning Intermediary Organizations include, but are not limited to, Child Care Resource and Referral Agencies; State Head Start Associations; Family Child Care Associations; State affiliates of the National Association for the Education of Young Children; State affiliates of the Council for Exceptional Children's Division of Early Childhood; statewide or regional union affiliates that represent Early Childhood Educators; affiliates of the National Migrant and Seasonal Head Start Association; the National Tribal, American Indian, and Alaskan Native Head Start Association; and the National Indian Child Care Association.

Essential Data Elements means the critical child, program, and workforce data elements of a coordinated early learning data system, including—

(a) A unique statewide child identifier or another highly accurate, proven method to link data on that child, including Kindergarten Entry Assessment data, to and from the Statewide Longitudinal Data System and the coordinated early learning data system (if applicable);

(b) A unique statewide Early Childhood Educator identifier;

(c) A unique program site identifier;

(d) Child and family demographic information;

(e) Early Childhood Educator demographic information, including data on educational attainment and State credential or licenses held, as well as professional development information;

(f) Program-level data on the program's structure, quality, child suspension and expulsion rates, staff retention, staff compensation, work environment, and all applicable data reported as part of the State's Tiered Quality Rating and Improvement System; and

(g) Child-level program participation and attendance data.

Essential Domains of School Readiness means the domains of language and literacy development, cognition and general knowledge (including early mathematics and early scientific development), approaches toward learning, physical well-being and motor development (including adaptive skills), and social and emotional development.

Formative Assessment (also known as a classroom-based or ongoing assessment) means assessment questions, tools, and processes—

(a) That are—

(1) Specifically designed to monitor children's progress in meeting the Early Learning and Development Standards;

(2) Valid and reliable for their intended purposes and their target populations;

(3) Linked directly to the curriculum; and

(b) The results of which are used to guide and improve instructional practices.

High-Quality Plan means any plan developed by the State to address a selection criterion or priority in this notice that is feasible and has a high probability of successful implementation and at a minimum includes—

(a) The key goals;

(b) The key activities to be undertaken; the rationale for the activities; and, if applicable, where in the State the activities will be initially implemented, and where and how they will be scaled up over time to eventually achieve statewide implementation;

(c) A realistic timeline, including key milestones, for implementing each key activity;

(d) The party or parties responsible for implementing each activity and other key personnel assigned to each activity;

(e) Appropriate financial resources to support successful implementation of the plan;

(f) The information requested as supporting evidence, if any, together with any additional information the State believes will be helpful to peer reviewers in judging the credibility of the plan;

(g) The information requested in the performance measures, where applicable;

(h) How the State will address the needs of the different types of Early Learning and Development Programs, if applicable; and

(i) How the State will meet the needs of Children with High Needs, as well as the unique needs of special populations of Children with High Needs.

Kindergarten Entry Assessment means an assessment that—

(a) Is administered to children during the first few months of their admission into kindergarten;

(b) Covers all Essential Domains of School Readiness;

(c) Is used in conformance with the recommendations of the National Research Council ⁸ reports on early childhood; and

⁸ National Research Council. (2008). Early Childhood Assessment: Why, What, and How. Committee on Developmental Outcomes and Assessments for Young Children, C.E. Snow and S.B. Van Hemel, Editors. Board on Children, Youth, and Families, Board on Testing and Assessment, Division of Behavioral and Social Sciences and Education. Washington, DC: The National Academies Press. http://www.nap.edu/catalog.php?record_id=12446.

(d) Is valid and reliable for its intended purposes and for the target populations and aligned to the Early Learning and Development Standards.

Results of the assessment should be used to inform efforts to close the school readiness gap at kindergarten entry and to inform instruction in the early elementary school grades. This assessment should not be used to prevent children's entry into kindergarten.

Lead Agency means the State-level agency designated by the Governor for the administration of the RTT-ELC grant; this agency is the fiscal agent for the grant. The Lead Agency must be one of the Participating State Agencies.

Low-Income means having an income of up to 200 percent of the Federal poverty rate.

Measures of Environmental Quality means valid and reliable indicators of the overall quality of the early learning environment.

Measures of the Quality of Adult-Child Interactions means the measures obtained through valid and reliable processes for observing how teachers and caregivers interact with children, where such processes are designed to promote child learning and to identify strengths and areas for improvement for early learning professionals.

Participating State Agency means a State agency that administers public funds related to early learning and development and is participating in the State Plan. The following State agencies are required Participating State Agencies: The agencies that administer or supervise the administration of CCDF, the section 619 of part B of IDEA and part C of IDEA programs, State-funded preschool, home visiting, Title I of ESEA, the Head Start State Collaboration Grant, and the Title V Maternal and Child Care Block Grant, as well as the State Advisory Council on Early Childhood Education and Care, the State's Child Care Licensing Agency, and the State Education Agency. Other State agencies, such as the agencies that administer or supervise the administration of Child Welfare, Mental Health, Temporary Assistance for Needy Families (TANF), Community-Based Child Abuse Prevention, the Child and Adult Care Food Program, and the Adult Education and Family Literacy Act (AEFLA) may be Participating State Agencies if they elect to participate in the State Plan.

Participating Program means an Early Learning and Development Program that elects to carry out activities described in the State Plan.

Program Standards means the standards that serve as the basis for a Tiered Quality Rating and Improvement System and define differentiated levels of quality for Early Learning and Development Programs. Program Standards are expressed, at a minimum, by the extent to which—

(a) Early Learning and Development Standards are implemented through evidence-based activities, interventions, or curricula that are appropriate for each age group of infants, toddlers, and preschoolers;

(b) Comprehensive Assessment Systems are used routinely and appropriately to improve instruction and enhance program quality by providing robust and coherent evidence of—

(1) Children's learning and development outcomes; and

(2) Program performance;

(c) A qualified workforce improves young children's health, social, emotional, and educational outcomes;

(d) Strategies are successfully used to engage families in supporting their children's development and learning. These strategies may include, but are not limited to, parent access to the program, ongoing two-way communication with families, parent education in child development, outreach to fathers and other family members, training and support for families as children move to preschool and kindergarten, social networks of support, intergenerational activities, linkages with community supports and adult and family literacy programs, parent involvement in decision making, and parent leadership development;

(e) Health promotion practices include health and safety requirements; developmental, behavioral, and sensory screening, referral, and follow up; and the promotion of physical activity, healthy eating habits, oral health and behavioral health, and health literacy among parents; and

(f) Effective data practices include gathering Essential Data Elements and entering them into the State's Statewide Longitudinal Data System or other early learning data system, using these data to guide instruction and program improvement, and making this information readily available to families.

Screening Measures means age and developmentally appropriate, valid, and reliable instruments that are used to identify children who may need follow-up services to address developmental, learning, or health needs in, at a minimum, the areas of physical health, behavioral health, oral health, child development, vision, and hearing.

State means any of the 50 States, the District of Columbia, and Puerto Rico.

State Plan means the plan submitted as part of the State's RTT-ELC application.

Statewide Longitudinal Data System means the State's longitudinal education data system that collects and maintains detailed, high-quality, student- and staff-level data that are linked across entities and that over time provide a complete academic and performance history for each student. The Statewide Longitudinal Data System is typically housed within the State educational agency but includes or can be connected to early childhood, postsecondary, and labor data.

Tiered Quality Rating and Improvement System means the system through which the State uses a set of progressively higher Program Standards to evaluate the quality of an Early Learning and Development Program and to support program improvement. A Tiered Quality Rating and Improvement System consists of four components: (a) Tiered Program Standards with multiple rating categories that clearly and meaningfully differentiate program quality levels; (b) monitoring to evaluate program quality based on the Program Standards; (c) supports to help programs meet progressively higher standards (e.g., through training, technical assistance, financial support); and (d) program quality ratings that are publically available; and includes a process for validating the system.

Workforce Knowledge and Competency Framework means a set of expectations that describes what Early Childhood Educators (including those working with children with disabilities and English learners) should know and be able to do. The Workforce Knowledge and Competency Framework, at a minimum, (a) is evidence-based; (b) incorporates knowledge and application of the State's Early Learning and Development Standards, the Comprehensive Assessment Systems, child development, health, and culturally and linguistically appropriate strategies for working with families; (c) includes knowledge of early mathematics and literacy development and effective instructional practices to support mathematics and literacy development in young children; (d) incorporates effective use of data to guide instruction and program improvement; (e) includes effective behavior management strategies that promote positive social emotional development and reduce challenging behaviors; and (f) incorporates feedback from experts at the State's postsecondary institutions and other early learning and development experts and Early Childhood Educators.

Waiver of Proposed Rulemaking: Under the Administrative Procedure Act, 5 U.S.C. 553, we generally offer interested parties the opportunity to comment on proposed priorities, requirements, definitions, and selection criteria. Section 437(d)(1) of GEPA, however, allows the Secretary of Education to exempt from rulemaking requirements governing the first grant competition under a new or substantially revised program authority. This is the first grant competition for the RTT-ELC grant program under the revised program authority in section 14006 of the ARRA, as amended by section 1832(b) of Division B of Public Law 112-10, the Department of Defense and Full-Year Continuing Appropriations Act, 2011. The Secretaries have decided to forgo public comment under the waiver authority in section 437(d)(1) of GEPA in order to ensure timely grant awards.

However, we have solicited public participation in two important ways as we developed an approach to conducting and implementing this competition. First, we invited the public to provide general input on the program from May 25 through June 30 on the ED.gov Blog. In response to this invitation, we received a total of 199 responses which we considered in our development of this notice. From July 1 to July 11, we posted on ED's Web site a draft Executive Summary of the competition, which included draft competition priorities, requirements, definitions, and selection criteria, and we invited public input on each of these elements of the competition. In response to this invitation, we received 349 responses that reflected the viewpoints of a variety of individuals, and early childhood, health, and education organizations. Members of the public provided input on all sections of the draft selection criteria, priorities, requirements, and definitions sections of the draft executive summary.

These priorities, selection criteria, requirements, and definitions will apply to the FY 2011 grant competition and any subsequent year in which we make awards from the list of unfunded applicants from this competition.

Program Authority: Sections 14005 and 14006, Division A, of the American Recovery and Reinvestment Act of 2009, as amended by section 1832(b) of Division B of Public Law 112-10, the Department of Defense and Full Year Continuing Appropriations Act, 2011.

Applicable Regulations: The Education Department General Administrative Regulations (EDGAR) in 34 CFR parts 75, 77, 79, 80, 82, 84, 85, 86, 97, 98, and 99.

II. Award Information

Type of Award: Discretionary grants.

Estimated Available Funds: $500 million. Contingent upon the availability of funds and the quality of applications, we may make additional awards in FY 2012 from the list of unfunded applicants from this competition.

Estimated Range of Awards: $50 million-$100 million.

Note: The Departments are not bound by any estimates in this notice.

Project Period: Up to 48 months.

Budget Requirements: To support States in planning their budgets, the Departments have developed the following budget caps for each State. The Secretaries will not consider for funding an application from a State that proposes a budget that exceeds the applicable cap set for that State. The Departments developed the following categories by ranking every State according to its share of the national population of children ages birth through five years old from Low-Income families and identifying the natural breaks in the rank order. Then, based on population, budget caps were developed for each category.⁹

⁹ Source: U.S. Department of Commerce, Census Bureau, 2009. American Community Survey (ACS) 1-year Public Use Microdata Sample (PUMS) data.

Category 1—Up to $100 million—California, Florida, New York, Texas.

Category 2—Up to $70 million—Arizona, Georgia, Illinois, Michigan, North Carolina, Ohio, Pennsylvania.

Category 3—Up to $60 million—Alabama, Colorado, Indiana, Kentucky, Louisiana, Missouri, New Jersey, Oklahoma, Puerto Rico, South Carolina, Tennessee, Virginia, Washington, Wisconsin.

Category 4—Up to $50 million—Alaska, Arkansas, Connecticut, Delaware, District of Columbia, Hawaii, Idaho, Iowa, Kansas, Maine, Maryland, Massachusetts, Minnesota, Mississippi, Montana, Nebraska, New Hampshire, New Mexico, Nevada, North Dakota, Oregon, Rhode Island, South Dakota, Utah, Vermont, West Virginia, Wyoming.

In addition to considering other relevant factors (see 34 CFR 75.217(d)(3)), the selection of grantees may consider the need to ensure that early learning and development systems are developed in States with large, high-poverty, rural communities (including States with high percentages of high-poverty populations in rural areas and States with high absolute numbers of high-poverty individuals in rural areas). Awards may be granted to high-quality applications out of rank order to meet this need. ED may use any unused funds designated for this competition to make awards in Phase 3 of the Race to the Top Program.

The State must include in its budget the amount of funds it intends to distribute through Memoranda Of Understanding (MOUs), interagency agreements, contracts, or other mechanisms authorized by State procurement laws, to localities, Early Learning Intermediary Organizations, Participating Programs, or other partners.

The State must set aside $400,000 from its grant funds for the purpose of participating in RTT-ELC grantee technical assistance activities facilitated by ED or HHS.

III. Eligibility Information

1. Eligible Applicants: States that meet the following requirements:

(a) The Lead Agency must have executed with each Participating State Agency an MOU or other binding agreement that the State must attach to its application, describing the Participating State Agency's level of participation in the grant. (See Appendix C of this notice.) At a minimum, the MOU or other binding agreement must include an assurance that the Participating State Agency agrees to use, to the extent applicable—

(1) A set of statewide Early Learning and Development Standards;

(2) A set of statewide Program Standards;

(3) A statewide Tiered Quality Rating and Improvement System; and

(4) A statewide Workforce Knowledge and Competency Framework and progression of credentials.

(b) The State must have an operational State Advisory Council on Early Care and Education that meets the requirements described in section 642B(b) of the Head Start Act (42 U.S.C. 9837b).

(c) The State must have submitted in FY 2010 an updated MIECHV State plan and FY 2011 Application for formula funding under the Maternal, Infant, and Early Childhood Home Visiting program (see section 511 of Title V of the Social Security Act, as added by section 2951 of the Affordable Care Act of 2010 (Pub. L. 111-148)).

2. Cost Sharing or Matching: This program does not require cost sharing or matching.

IV. Application and Submission Information

1. Address to Request Application Package:

You can obtain an application package via the Internet or from the Education Publications Center (ED Pubs). To obtain a copy via the Internet, use the following address: http://www.ed.gov/programs/racetothetop-earlylearningchallenge. To obtain a copy from ED Pubs, write, fax, or call the following: Education Publications Center, P.O. Box 1398, Jessup, MD 20794-1398. Telephone, toll free: 1-877-433-7827. FAX: (301) 470-1244. If you use a telecommunications device for the deaf (TDD), call, toll free: 1-877-576-7734.

You can also contact ED Pubs at its Web site: http://www.ed.gov/pubs/edpubs.html or at its e-mail address: edpubs@inet.ed.gov.

If you request an application from ED Pubs, be sure to identify this program or competition as follows: CFDA 84.412.

Individuals with disabilities can obtain a copy of the application package in an accessible format (e.g., braille, large print, audiotape, or compact disc) by contacting the person listed under FOR FURTHER INFORMATION CONTACT in section VII of this notice.

2. Content and Form of Application Submission: Requirements concerning the content of the application, together with the forms a State must submit, are in the application package for this competition.

Page Limit: The application narrative (section VI of the application) is where the applicant addresses the selection criteria that reviewers will use to evaluate applications. We recommend that the applicant limit its narrative responses in section VI of the application to no more than 150 pages and limit its appendices to no more than 150 pages. The Secretaries strongly requests that applicants follow the recommended page limits, although the Secretaries will consider applications of greater length.

The following standards are recommended:

• A “page” is 8.5″ x 11″, on one side only, with 1″ margins at the top, bottom, and both sides.

• Each page is numbered.

• Line spacing is set to 1.5 spacing, and the font used is 12 point Times New Roman.

3. Submission Dates and Times:

Applications Available: August 26, 2011.

Dates of Meetings for Potential Applicants: September 1, 2011; September 13, 2011. To assist States in preparing the application and to respond to questions, ED and HHS intend to host a Webinar with potential applicants on September 1, 2011, to review the requirements, selection criteria, and priorities for this competition. The Departments also plan to host a Technical Assistance Planning Workshop for potential applicants on September 13, 2011, in Washington, DC. To minimize travel burdens associated with this workshop and to maximize the number of potential applicants who can participate, the Departments will also broadcast this workshop live at several other regional offices of the Departments across the country. The purpose of the workshop will be to allow teams of participants responsible for developing the State's application to review with Federal program staff the priorities, requirements, and selection criteria for this competition and to ask questions about the RTT-ELC competition. We strongly encourage all interested State applicants to participate in the workshop, either in Washington, DC, or at one of the regional offices. For those who cannot attend the workshop in person, a video recording of the workshop will be available on the RTT-ELC Web site at http://www.ed.gov/programs/racetothetop-earlylearningchallenge. The Departments may host additional conference calls, workshops, or Webinars to answer applicant questions and will be posting Frequently Asked Questions (FAQs) and responses on the RTT-ELC Web site. The Departments will make available all registration information and additional details for the September 1, 2011, Webinar; the September 13, 2011, workshop; and any other technical assistance events on the RTT-ELC Web site at http://www.ed.gov/programs/racetothetop-earlylearningchallenge.

Deadline for Transmittal of Applications: October 19, 2011.

Applications for grants under this competition must be submitted in electronic format on a CD or DVD, by mail or hand delivery. For information (including dates and times) about how to submit your application by mail or hand delivery, please refer to section IV (7) Other Submission Requirements of this notice. We will not consider an application that does not comply with the deadline requirements.

We will provide Congress with the names of the States that have submitted applications, as well as post the names of these States on the ED's Web site. We will also post all applications submitted by the States. Therefore, please ensure that your application does not include personally identifiable information, proprietary information, and other non-public information.

Individuals with disabilities who need an accommodation or auxiliary aid in connection with the application process should contact the person listed under FOR FURTHER INFORMATION CONTACT in section VII of this notice. If the Departments provide an accommodation or auxiliary aid to an individual with a disability in connection with the application process, the individual's application remains subject to all other requirements and limitations in this notice.

Deadline for Intergovernmental Review: December 19, 2011.

4. Intergovernmental Review: This program is subject to Executive Order 12372 and the regulations in 34 CFR part 79. Information about Intergovernmental Review of Federal Programs under Executive Order 12372 is in the application package for this competition.

5. Funding Restrictions: We specify unallowable costs in section (b) of Program Requirements in this notice. We reference additional regulations outlining funding restrictions in the Applicable Regulations section of this notice.

6. Data Universal Numbering System Number, Taxpayer Identification Number, and Central Contractor Registry: To do business with the Departments, you must—

a. Have a Data Universal Numbering System (DUNS) number and a Taxpayer Identification Number (TIN);

b. Register both your DUNS number and TIN with the Central Contractor Registry (CCR), the Government's primary registrant database;

c. Provide your DUNS number and TIN on your application; and

d. Maintain an active CCR registration with current information while your application is under review by the Departments and, if you are awarded a grant, during the project period.

You can obtain a DUNS number from Dun and Bradstreet. A DUNS number can be created within one business day.

The CCR registration process may take five or more business days to complete. If you are currently registered with the CCR, you may not need to make any changes. However, please make certain that the TIN associated with your DUNS number is correct. Also note that you will need to update your CCR registration on an annual basis. This may take three or more business days to complete.

7. Other Submission Requirements: Applications for grants under this competition must be submitted by mail or hand delivery. We strongly recommend the use of overnight mail. Applications postmarked on the deadline date but arriving late will not be read.

a. Application Submission Format and Deadline.

Applications for grants under this competition must be submitted in electronic format on a CD or DVD, with CD-ROM or DVD-ROM preferred. In addition, applicants must submit a signed paper original of section IV of the application and one copy of that signed original. Autopen, copies, .PDFs (Adobe Portable Document Format), and faxed copies of signature pages are not acceptable originals. Section IV of the application includes the Application Assurances and Certifications.

We strongly request the applicant to submit a CD or DVD of its application that includes the following files:

1. A single file that contains the body of the application, including required budget tables, that has been converted into a .PDF (Portable Document) format so that the .PDF is searchable. Note that a .PDF created from a scanned document will not be searchable.

2. A single file in a .PDF format that contains all of the required signature pages. The signature pages may be scanned and turned into a PDF.

3. Copies of the completed electronic budget spreadsheets with the required budget tables, which should be in a separate file from the body of the application. The spreadsheets will not be reviewed by peer reviewers but will be used by the Departments for budget reviews.

Each of these items must be clearly labeled with the State's name and any other relevant identifying information. States must not password-protect these files.

We must receive all grant applications by 4:30:00 p.m., Washington, DC time, on the application deadline date. We will not accept an application for this competition after 4:30:00 p.m., Washington, DC time, on the application deadline date. Therefore, we strongly recommend that applicants arrange for mailing or hand delivery of their application in advance of the application deadline date.

b. Submission of Applications by Mail. States choosing to submit their application (i.e., the CD or DVD, the signed paper original of section IV of the application, and the copy of that original) by mail (either through the U.S. Postal Service or a commercial carrier) should use the following mailing address: U.S. Department of Education, Application Control Center, Attention: (CFDA Number 84.412), LBJ Basement Level 1, 400 Maryland Avenue, SW., Washington, DC 20202-4260.

We must receive applications on or before the application deadline date. Therefore, to avoid delays, we strongly recommend sending applications via overnight mail. If we receive an application after the application deadline, we will not consider that application.

c. Submission of Applications by Hand Delivery.

States choosing to submit their application (i.e., the CD or DVD, the signed paper original of section IV of the application, and the copy of that original) by hand delivery (including via a courier service) should use the following address: U.S. Department of Education, Application Control Center, Attention: (CFDA Number 84.412), 550 12th Street, SW., Room 7041, Potomac Center Plaza, Washington, DC 20202-4260.

The Application Control Center accepts hand deliveries daily between 8:00 a.m. and 4:30:00 p.m., Washington, DC time, except Saturdays, Sundays, and Federal holidays. If we receive an application after the application deadline, we will not consider that application.

d. Envelope requirements and receipt: When an applicant submits its application, whether by mail or hand delivery—

(1) It must indicate on the envelope that the CFDA number of the competition under which it is submitting its application is 84.412; and

(2) The Application Control Center will mail to the applicant a notification of receipt of the grant application. If the applicant does not receive this notification, it should call the Application Control Center at (202) 245-6288.

In accordance with 34 CFR 75.216(b) and (c), an application will not be evaluated for funding if the applicant does not comply with all of the procedural rules that govern the submission of the application or the application does not contain the information required under the program.

V. Application Review Information

1. Selection Criteria: We will use the following selection criteria to evaluate applications submitted under the RTT-ELC competition. The maximum score for all the selection criteria and competitive preference priorities is 300 points. The maximum score for each selection criterion is indicated in parentheses. The reviewers will utilize the scoring rubric located in Appendix B of this notice when evaluating the following selection criteria:

Core Areas—Sections (A) (Successful State Systems) and (B) (High-Quality, Accountable Programs)

States must address in their application all of the selection criteria in the Core Areas.

A. Successful State Systems

(A)(1) Demonstrating past commitment to early learning and development. (20 points)

The extent to which the State has demonstrated past commitment to and investment in high-quality, accessible Early Learning and Development Programs and services for Children with High Needs, as evidenced by the State's—

(a) Financial investment, from January 2007 to the present, in Early Learning and Development Programs, including the amount of these investments in relation to the size of the State's population of Children with High Needs during this time period;

(b) Increasing, from January 2007 to the present, the number of Children with High Needs participating in Early Learning and Development Programs;

(c) Existing early learning and development legislation, policies, or practices; and

(d) Current status in key areas that form the building blocks for a high quality early learning and development system, including Early Learning and Development Standards, Comprehensive Assessment Systems, health promotion practices, family engagement strategies, the development of Early Childhood Educators, Kindergarten Entry Assessments, and effective data practices.

(A)(2) Articulating the State's rationale for its early learning and development reform agenda and goals. (20 points)

The extent to which the State clearly articulates a comprehensive early learning and development reform agenda that is ambitious yet achievable, builds on the State's progress to date (as demonstrated in selection criterion (A)(1)), is most likely to result in improved school readiness for Children with High Needs, and includes—

(a) Ambitious yet achievable goals for improving program quality, improving outcomes for Children with High Needs statewide, and closing the readiness gap between Children with High Needs and their peers;

(b) An overall summary of the State Plan that clearly articulates how the High-Quality Plans proposed under each selection criterion, when taken together, constitute an effective reform agenda that establishes a clear and credible path toward achieving these goals; and

(c) A specific rationale that justifies the State's choice to address the selected criteria in each Focused Investment Area (C), (D), and (E), including why these selected criteria will best achieve these goals.

(A)(3) Aligning and coordinating early learning and development across the State. (10 points)

The extent to which the State has established, or has a High-Quality Plan to establish, strong participation and commitment in the State Plan by Participating State Agencies and other early learning and development stakeholders by—

(a) Demonstrating how the Participating State Agencies and other partners, if any, will identify a governance structure for working together that will facilitate interagency coordination, streamline decision making, effectively allocate resources, and create long-term sustainability and describing—

(1) The organizational structure for managing the grant and how it builds upon existing interagency governance structures such as children's cabinets, councils, and commissions, if any already exist and are effective;

(2) The governance-related roles and responsibilities of the Lead Agency, the State Advisory Council, each Participating State Agency, the State's Interagency Coordinating Council for part C of IDEA, and other partners, if any;

(3) The method and process for making different types of decisions (e.g., policy, operational) and resolving disputes; and

(4) The plan for when and how the State will involve representatives from Participating Programs, Early Childhood Educators or their representatives, parents and families, including parents and families of Children with High Needs, and other key stakeholders in the planning and implementation of the activities carried out under the grant;

(b) Demonstrating that the Participating State Agencies are strongly committed to the State Plan, to the governance structure of the grant, and to effective implementation of the State Plan, by including in the MOUs or other binding agreements between the State and each Participating State Agency—

(1) Terms and conditions that reflect a strong commitment to the State Plan by each Participating State Agency, including terms and conditions designed to align and leverage the Participating State Agencies' existing funding to support the State Plan;

(2) “Scope-of-work” descriptions that require each Participating State Agency to implement all applicable portions of the State Plan and a description of efforts to maximize the number of Early Learning and Development Programs that become Participating Programs; and

(3) A signature from an authorized representative of each Participating State Agency; and

(c) Demonstrating commitment to the State Plan from a broad group of stakeholders that will assist the State in reaching the ambitious yet achievable goals outlined in response to selection criterion (A)(2)(a), including by obtaining—

(1) Detailed and persuasive letters of intent or support from Early Learning Intermediary Organizations, and, if applicable, local early learning councils; and

(2) Letters of intent or support from such other stakeholders as Early Childhood Educators or their representatives; the State's legislators; local community leaders; State or local school boards; representatives of private and faith-based early learning programs; other State and local leaders (e.g., business, community, tribal, civil rights, education association leaders); adult education and family literacy State and local leaders; family and community organizations (e.g., parent councils, nonprofit organizations, local foundations, tribal organizations, and community-based organizations); libraries and children's museums; health providers; and postsecondary institutions.

(A)(4) Developing a budget to implement and sustain the work of this grant. (15 points)

The extent to which the State Plan—

(a) Demonstrates how the State will use existing funds that support early learning and development from Federal, State, private, and local sources (e.g., CCDF; Title I and II of ESEA; IDEA; Striving Readers Comprehensive Literacy Program; State preschool; Head Start Collaboration and State Advisory Council funding; Maternal, Infant, and Early Childhood Home Visiting Program; Title V MCH Block Grant; TANF; Medicaid; child welfare services under Title IV (B) and (E) of the Social Security Act; Statewide Longitudinal Data System; foundation; other private funding sources) for activities and services that help achieve the outcomes in the State Plan, including how the quality set-asides in CCDF will be used;

(b) Describes, in both the budget tables and budget narratives, how the State will effectively and efficiently use funding from this grant to achieve the outcomes in the State Plan, in a manner that—

(1) Is adequate to support the activities described in the State Plan;

(2) Includes costs that are reasonable and necessary in relation to the objectives, design, and significance of the activities described in the State Plan and the number of children to be served; and

(3) Details the amount of funds budgeted for Participating State Agencies, localities, Early Learning Intermediary Organizations, Participating Programs, or other partners, and the specific activities to be implemented with these funds consistent with the State Plan, and demonstrates that a significant amount of funding will be devoted to the local implementation of the State Plan; and

(c) Demonstrates that it can be sustained after the grant period ends to ensure that the number and percentage of Children with High Needs served by Early Learning and Development Programs in the State will be maintained or expanded.

B. High-Quality, Accountable Programs

(B)(1) Developing and adopting a common, statewide Tiered Quality Rating and Improvement System. (10 points)

The extent to which the State and its Participating State Agencies have developed and adopted, or have a High-Quality Plan to develop and adopt, a Tiered Quality Rating and Improvement System that—

(a) Is based on a statewide set of tiered Program Standards that include—

(1) Early Learning and Development Standards;

(2) A Comprehensive Assessment System;

(3) Early Childhood Educator qualifications;

(4) Family engagement strategies;

(5) Health promotion practices; and

(6) Effective data practices;

(b) Is clear and has standards that are measurable, meaningfully differentiate program quality levels, and reflect high expectations of program excellence commensurate with nationally recognized standards ¹⁰ that lead to improved learning outcomes for children; and

¹⁰ See such nationally recognized standards as:

U.S. Department of Health and Human Services. (2009). Head Start Program Performance Standards. Washington, DC: U.S. Department of Health and Human Services. PDF retrieved from: 45 CFR Chapter XIII—1301-1311 http://eclkc.ohs.acf.hhs.gov/hslc/Head%20Start%20Program/Program%20Design%20and%20Management/Head%20Start%20Requirements/Head%20Start%20Requirements/45%20CFR%20Chapter%20XIII/45%20CFR%20Chap%20XIII_ENG.pdf.

U.S. Department of Defense. DoD Instruction 6060.2, Child Development Programs (CDPs), January 19, 1993, certified as current August 25, 1998 (to be updated Fall 2011). Washington, DC: U.S. Department of Defense. Retrieved from: http://www.militaryhomefront.dod.mil/portal/page/mhf/MHF/MHF_DETAIL_1?section_id=20.60.500.100.0.0.0.0.0&current_id=20.60.500.100.500.60.60.0.0.

American Academy of Pediatrics, American Public Health association, and National Resource Center for Health and Safety in Child Care and Early Education. (2011) Caring for Our Children: National Health and Safety Performance Standards; Guidelines for Early Care and education Programs. Elk Grove Village, IL; American Academy of Pediatrics.

(c) Is linked to the State licensing system for Early Learning and Development Programs.

(B)(2) Promoting Participation in the State's Tiered Quality Rating and Improvement System. (15 points)

The extent to which the State has maximized, or has a High-Quality Plan to maximize, program participation in the State's Tiered Quality Rating and Improvement System by—

(a) Implementing effective policies and practices to reach the goal of having all publicly funded Early Learning and Development Programs participate in such a system, including programs in each of the following categories—

(1) State-funded preschool programs;

(2) Early Head Start and Head Start programs;

(3) Early Learning and Development Programs funded under section 619 of part B of IDEA and part C of IDEA;

(4) Early Learning and Development Programs funded under Title I of the ESEA; and

(5) Early Learning and Development Programs receiving funds from the State's CCDF program;

(b) Implementing effective policies and practices designed to help more families afford high-quality child care and maintain the supply of high-quality child care in areas with high concentrations of Children with High Needs (e.g., maintaining or increasing subsidy reimbursement rates, taking actions to ensure affordable co-payments, providing incentives to high-quality providers to participate in the subsidy program); and

(c) Setting ambitious yet achievable targets for the numbers and percentages of Early Learning and Development Programs that will participate in the Tiered Quality Rating and Improvement System by type of Early Learning and Development Program (as listed in (B)(2)(a)(1) through (5) above).

(B)(3) Rating and monitoring Early Learning and Development Programs. (15 points)

The extent to which the State and its Participating State Agencies have developed and implemented, or have a High-Quality Plan to develop and implement, a system for rating and monitoring the quality of Early Learning and Development Programs participating in the Tiered Quality Rating and Improvement System by—

(a) Using a valid and reliable tool for monitoring such programs, having trained monitors whose ratings have an acceptable level of inter-rater reliability, and monitoring and rating the Early Learning and Development Programs with appropriate frequency; and

(b) Providing quality rating and licensing information to parents with children enrolled in Early Learning and Development Programs (e.g., displaying quality rating information at the program site) and making program quality rating data, information, and licensing history (including any health and safety violations) publicly available in formats that are easy to understand and use for decision making by families selecting Early Learning and Development Programs and families whose children are enrolled in such programs.

(B)(4) Promoting access to high-quality Early Learning and Development Programs for Children with High Needs. (20 points)

The extent to which the State and its Participating State Agencies have developed and implemented, or have a High-Quality Plan to develop and implement, a system for improving the quality of the Early Learning and Development Programs participating in the Tiered Quality Rating and Improvement System by—

(a) Developing and implementing policies and practices that provide support and incentives for Early Learning and Development Programs to continuously improve (e.g., through training, technical assistance, financial rewards or incentives, higher subsidy reimbursement rates, compensation);

(b) Providing supports to help working families who have Children with High Needs access high-quality Early Learning and Development Programs that meet those needs (e.g., providing full-day, full-year programs; transportation; meals; family support services); and

(c) Setting ambitious yet achievable targets for increasing—

(1) The number of Early Learning and Development Programs in the top tiers of the Tiered Quality Rating and Improvement System; and

(2) The number and percentage of Children with High Needs who are enrolled in Early Learning and Development Programs that are in the top tiers of the Tiered Quality Rating and Improvement System.

(B)(5) Validating the effectiveness of State Tiered Quality Rating and Improvement Systems. (15 points)

The extent to which the State has a High-Quality Plan to design and implement evaluations—working with an independent evaluator and, when warranted, as part of a cross-State evaluation consortium—of the relationship between the ratings generated by the State's Tiered Quality Rating and Improvement System and the learning outcomes of children served by the State's Early Learning and Development Programs by—

(a) Validating, using research-based measures, as described in the State Plan (which also describes the criteria that the State used or will use to determine those measures), whether the tiers in the State's Tiered Quality Rating and Improvement System accurately reflect differential levels of program quality; and

(b) Assessing, using appropriate research designs and measures of progress (as identified in the State Plan), the extent to which changes in quality ratings are related to progress in children's learning, development, and school readiness.

Focused Investment Areas—Sections (C), (D), and (E)

Each State must address in its application—

(1) Two or more of the selection criteria in Focused Investment Area (C);

(2) One or more of the selection criteria in Focused Investment Area (D); and

(3) One or more of the selection criteria in Focused Investment Area (E).

The total available points for each Focused Investment Area will be divided by the number of selection criteria that the applicant chooses to address in that area, so that each selection criterion is worth the same number of points.

C. Promoting Early Learning and Development Outcomes for Children

The total available points that an applicant may receive for selection criteria (C)(1) through (C)(4) is 60. The 60 points will be divided by the number of selection criteria that the applicant chooses to address so that each selection criterion is worth the same number of points. For example, if the applicant chooses to address all four selection criteria under this Focused Investment Area, each criterion will be worth up to 15 points. If the applicant chooses to address two selection criteria, each criterion will be worth up to 30 points.

The applicant must address at least two of the selection criteria within Focused Investment Area (C), which are as follows:

(C)(1) Developing and using statewide, high-quality Early Learning and Development Standards.

The extent to which the State has a High-Quality Plan to put in place high-quality Early Learning and Development Standards that are used statewide by Early Learning and Development Programs and that—

(a) Includes evidence that the Early Learning and Development Standards are developmentally, culturally, and linguistically appropriate across each age group of infants, toddlers, and preschoolers, and that they cover all Essential Domains of School Readiness;

(b) Includes evidence that the Early Learning and Development Standards are aligned with the State's K-3 academic standards in, at a minimum, early literacy and mathematics;

(c) Includes evidence that the Early Learning and Development Standards are incorporated in Program Standards, curricula and activities, Comprehensive Assessment Systems, the State's Workforce Knowledge and Competency Framework, and professional development activities; and

(d) The State has supports in place to promote understanding of and commitment to the Early Learning and Development Standards across Early Learning and Development Programs.

(C)(2) Supporting effective uses of Comprehensive Assessment Systems.

The extent to which the State has a High-Quality Plan to support the effective implementation of developmentally appropriate Comprehensive Assessment Systems by—

(a) Working with Early Learning and Development Programs to select assessment instruments and approaches that are appropriate for the target populations and purposes;

(b) Working with Early Learning and Development Programs to strengthen Early Childhood Educators' understanding of the purposes and uses of each type of assessment included in the Comprehensive Assessment Systems;

(c) Articulating an approach for aligning and integrating assessments and sharing assessment results, as appropriate, in order to avoid duplication of assessments and to coordinate services for Children with High Needs who are served by multiple Early Learning and Development Programs; and

(d) Training Early Childhood Educators to appropriately administer assessments and interpret and use assessment data in order to inform and improve instruction, programs, and services.

(C)(3) Identifying and addressing the health, behavioral, and developmental needs of Children with High Needs to improve school readiness.

The extent to which the State has a High-Quality Plan to identify and address the health, behavioral, and developmental needs of Children with High Needs by—

(a) Establishing a progression of standards for ensuring children's health and safety; ensuring that health and behavioral screening and follow-up occur; and promoting children's physical, social, and emotional development across the levels of its Program Standards;

(b) Increasing the number of Early Childhood Educators who are trained and supported on an on-going basis in meeting the health standards;

(c) Promoting healthy eating habits, improving nutrition, expanding physical activity; and

(d) Leveraging existing resources to meet ambitious yet achievable annual targets to increase the number of Children with High Needs who—

(1) Are screened using Screening Measures that align with the Medicaid Early Periodic Screening, Diagnostic and Treatment benefit (see section 1905(r)(5) of the Social Security Act) or the well-baby and well-child services available through the Children's Health Insurance Program (42 CFR 457.520), and that, as appropriate, are consistent with the Child Find provisions in IDEA (see sections 612(a)(3) and 635(a)(5) of IDEA);

(2) Are referred for services based on the results of those screenings, and, where appropriate, received follow-up; and

(3) Participate in ongoing health care as part of a schedule of well-child care, including the number of children who are up to date in a schedule of well-child care.

(C)(4) Engaging and supporting families.

The extent to which the State has a High-Quality Plan to provide culturally and linguistically appropriate information and support to families of Children with High Needs in order to promote school readiness for their children by—

(a) Establishing a progression of culturally and linguistically appropriate standards for family engagement across the levels of its Program Standards, including activities that enhance the capacity of families to support their children's education and development;

(b) Increasing the number and percentage of Early Childhood Educators trained and supported on an on-going basis to implement the family engagement strategies included in the Program Standards; and

(c) Promoting family support and engagement statewide, including by leveraging other existing resources such as through home visiting programs, other family-serving agencies, and through outreach to family, friend, and neighbor caregivers.

D. A Great Early Childhood Education Workforce

The total available points that a State may receive for selection criteria (D)(1) and (D)(2) is 40. The 40 points will be divided by the number of selection criteria that the applicant chooses to address so that each selection criterion is worth the same number of points. For example, if the applicant chooses to address both selection criteria under this Focused Investment Area, each criterion will be worth up to 20 points. If the applicant chooses to address one selection criterion, the criterion will be worth up to 40 points.

The applicant must address at least one of the selection criteria within Focused Investment Area (D), which are as follows:

(D)(1) Developing a Workforce Knowledge and Competency Framework and a progression of credentials.

The extent to which the State has a High-Quality Plan to—

(a) Develop a common, statewide Workforce Knowledge and Competency Framework designed to promote children's learning and development and improve child outcomes;

(b) Develop a common, statewide progression of credentials and degrees aligned with the Workforce Knowledge and Competency Framework; and

(c) Engage postsecondary institutions and other professional development providers in aligning professional development opportunities with the State's Workforce Knowledge and Competency Framework.

(D)(2) Supporting Early Childhood Educators in improving their knowledge, skills, and abilities.

The extent to which the State has a High-Quality Plan to improve the effectiveness and retention of Early Childhood Educators who work with Children with High Needs, with the goal of improving child outcomes by—

(a) Providing and expanding access to effective professional development opportunities that are aligned with the State's Workforce Knowledge and Competency Framework;

(b) Implementing policies and incentives (e.g., scholarships, compensation and wage supplements, tiered reimbursement rates, other financial incentives, management opportunities) that promote professional improvement and career advancement along an articulated career pathway that is aligned with the Workforce Knowledge and Competency Framework, and that are designed to increase retention;

(c) Publicly reporting aggregated data on Early Childhood Educator development, advancement, and retention; and

(d) Setting ambitious yet achievable targets for—

(1) Increasing the number of postsecondary institutions and professional development providers with programs that are aligned to the Workforce Knowledge and Competency Framework and the number of Early Childhood Educators who receive credentials from postsecondary institutions and professional development providers that are aligned to the Workforce Knowledge and Competency Framework; and

(2) Increasing the number and percentage of Early Childhood Educators who are progressing to higher levels of credentials that align with the Workforce Knowledge and Competency Framework.

E. Measuring Outcomes and Progress

The total available points an applicant may receive for selection criteria (E)(1) and (E)(2) is 40. The 40 points will be divided by the number of selection criteria that the applicant chooses to address so that each selection criterion is worth the same number of points. For example, if the applicant chooses to address both selection criteria under this Focused Investment Area, each criterion will be worth up to 20 points. If the applicant chooses to address one selection criterion, the criterion will be worth up to 40 points.

The applicant must address at least one of the selection criteria within Focused Investment Area (E), which are as follows:

(E)(1) Understanding the status of children's learning and development at kindergarten entry.

The extent to which the State has a High-Quality Plan to implement, independently or as part of a cross-State consortium, a common, statewide Kindergarten Entry Assessment that informs instruction and services in the early elementary grades and that—

(a) Is aligned with the State's Early Learning and Development Standards and covers all Essential Domains of School Readiness;

(b) Is valid, reliable, and appropriate for the target population and for the purpose for which it will be used, including for English learners and children with disabilities;

(c) Is administered beginning no later than the start of school year 2014-2015 to children entering a public school kindergarten; States may propose a phased implementation plan that forms the basis for broader statewide implementation;

(d) Is reported to the Statewide Longitudinal Data System, and to the early learning data system, if it is separate from the Statewide Longitudinal Data System, as permitted under and consistent with the requirements of Federal, State, and local privacy laws; and

(e) Is funded, in significant part, with Federal or State resources other than those available under this grant, (e.g., with funds available under section 6111 or 6112 of the ESEA).

(E)(2) Building or enhancing an early learning data system to improve instruction, practices, services, and policies.

The extent to which the State has a High-Quality Plan to enhance the State's existing Statewide Longitudinal Data System or to build or enhance a separate, coordinated, early learning data system that aligns and is interoperable with the Statewide Longitudinal Data System, and that either data system—

(a) Has all of the Essential Data Elements;

(b) Enables uniform data collection and easy entry of the Essential Data Elements by Participating State Agencies and Participating Programs;

(c) Facilitates the exchange of data among Participating State Agencies by using standard data structures, data formats, and data definitions such as Common Education Data Standards to ensure interoperability among the various levels and types of data;

(d) Generates information that is timely, relevant, accessible, and easy for Early Learning and Development Programs and Early Childhood Educators to use for continuous improvement and decision making; and

(e) Meets the Data System Oversight Requirements and complies with the requirements of Federal, State, and local privacy laws.

2. Review and Selection Process:

The Departments will screen applications that are received by the deadline listed in this notice and will determine which States are eligible based on whether they have met the eligibility requirements in paragraphs (1)(a), (1)(b), and (1)(c) of section III (Eligibility Information) of this notice; the Departments will not consider further those applicants deemed ineligible under eligibility requirements in paragraphs (1)(a), (1)(b), and (1)(c) of that section.

The Departments intend to use a peer review process with panels of five reviewers per application. Review panels will be created based on the number of applications received (e.g., if 35 applications are received, reviewers will be sorted into 35 different panels).

After the review process is complete, the selection of grantees will take into account, consistent with 34 CFR 75.217, the rank order of applications, each applicant's status with respect to the Absolute Priority and the eligibility requirements (1)(a), (1)(b), and (1)(c) of section III (Eligibility Information) of this notice; and any other relevant information. In addition, consistent with 34 CFR 75.217(d)(3), we remind potential applicants the evaluation of applications may consider the applicant's past performance in carrying out a previous reward, such as the applicant's use of funds, achievement of project objectives, and compliance with grant conditions, as well as the applicant's prior record in submitting timely and adequate performance reports. All applicants will receive their reviewers' comments and scores.

In addition, in making a competitive grant award, various assurances are required from grantees, including those applicable to Federal civil rights laws that prohibit discrimination in programs or activities receiving Federal financial assistance from the Department of Education (34 CFR 100.4, 104.5, 106.4, 108.8, and 110.23).

In addition to considering other relevant factors (see 34 CFR 75.217(d)(3)), the selection of grantees may consider the need to ensure that high-quality early learning and development systems are developed in States with large, high-poverty, rural communities (including States with high percentages of high-poverty populations in rural areas and States with high absolute numbers of high-poverty individuals in rural areas). Awards may be granted to high-quality applications out of rank order to meet this need.

We will post all submitted applications (both successful and unsuccessful) on ED's Web site, together with the final scores each application received. We will post each reviewer's final scores and comments on reviewed applications, with the names of reviewers redacted.

3. Special Conditions: Under 34 CFR 80.12, special conditions may be imposed on a grant if the grantee is not financially stable; has a history of unsatisfactory performance; has a financial or other management system that does not meet the standards in 34 CFR part 80, as applicable; has not fulfilled the conditions of a prior grant; or is otherwise not responsible.

VI. Award Administration Information

1. Award Notices: If an application is successful, ED will notify the State's U.S. Representatives and U.S. Senators and send the applicant a Grant Award Notification (GAN). We may notify the State informally, as well.

If an application is not evaluated or not selected for funding, ED will notify the State.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates the approved application as part of the binding commitments under the grant.

3. Reporting:

(a) Any State that applies for a grant under this competition must ensure that it has in place the necessary processes and systems to comply with the reporting requirements in 2 CFR part 170 should it receive funding under the competition. This does not apply if the State has an exception under 2 CFR 170.110(b).

(b) A State receiving funds under an RTT-ELC grant must submit an annual report that must include, in addition to the standard elements, a description of the State's progress to date on its goals, timelines, and budgets, as well as actual performance compared to the annual targets the State established in its application with respect to each performance measure. Further, a State receiving funds under this program is accountable for meeting the goals, timelines, budget, and annual targets established in the application; adhering to an annual fund drawdown schedule that is tied to meeting these goals, timelines, budget, and annual targets; and fulfilling and maintaining all other conditions for the conduct of the project. The Departments will monitor a State's progress in meeting the State's goals, timelines, budget, and annual targets and in fulfilling other applicable requirements. In addition, we may collect additional data as part of a State's annual reporting requirements.

To support a collaborative process with the State, we may require that applicants who are selected to receive an award enter into a written performance or cooperative agreement. If we determine that a State is not meeting its goals, timelines, budget, or annual targets or is not fulfilling other applicable requirements, we will take appropriate action, which could include establishing a collaborative process or taking enforcement measures with respect to this grant, such as placing the State in high-risk status, putting the State on reimbursement payment status, or delaying or withholding funds.

4. Evidence and Performance Measures: Appendix A to this notice lists the evidence and performance measures.

VII. Agency Contact

FOR FURTHER INFORMATION CONTACT: Meredith Farace, U.S. Department of Education, 400 Maryland Ave., SW., room 7E208, Washington, DC 20202-6400. Telephone: 202-453-6400 or by e-mail: RTT.Early.Learning.Challenge@ed.gov.

If a TDD is needed, call the Federal Relay Service, toll free, at 1-800-877-8339.

VIII. Other Information

Accessible Format: Individuals with disabilities can obtain this document in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: http://www.gpo.gov/fdsys. At this site you can view this document, as well as all other documents of these Departments published in the Federal Register, in text or Adobe Portable Document Format (PDF). To use PDF you must have Adobe Acrobat Reader, which is available free at the site.

You may also access documents of these Departments published in the Federal Register by using the article search feature at: http://www.federalregister.gov. Specifically, through the advanced search feature at this site, you can limit your search to documents published by the Department.

Dated: August 22, 2011.
Arne Duncan,
Secretary of Education.
Kathleen Sebelius,
Secretary of Health and Human Services.

Appendix A: Evidence and Performance Measures

Note: All tables referenced in this notice are included in the application package.

Core Areas—Sections (A) and (B)

A. Successful State Systems

(A)(1) Demonstrating past commitment to early learning and development

Evidence for (A)(1):

• The completed background data tables providing the State's baseline data for—

○ The number and percentage of children from Low-Income families in the State, by age (see Table (A)(1)-1 in the application);

○ The number and percentage of Children with High Needs from special populations in the State (see Table (A)(1)-2 in the application); and

○ The number of Children with High Needs in the State who are enrolled in Early Learning and Development Programs, by age (see Table (A)(1)-3 in the application).

• Data currently available, if any, on the status of children at kindergarten entry (across Essential Domains of School Readiness, if available), including data on the readiness gap between Children with High Needs and their peers.

• Data currently available, if any, on program quality across different types of Early Learning and Development Programs.

• The completed table that shows the number of Children with High Needs participating in each type of Early Learning and Development Program for each of the past 5 years (2007-2011) (see Table (A)(1)-4 in the application).

• The completed table that shows the number of Children with High Needs participating in each type of Early Learning and Development Program for each of the past 5 years (2007-2011) (see Table (A)(1)-5 in the application).

• The completed table that describes the current status of the State's Early Learning and Development Standards, for each of the Essential Domains of School Readiness, by age group of infants, toddlers, and preschoolers (see Table (A)(1)-6 in the application).

• The completed table that describes the elements of a Comprehensive Assessment System currently required within the State by different types of Early Learning and Development Programs or systems (see Table (A)(1)-7 in the application).

• The completed table that describes the elements of high-quality health promotion practices currently required within the State by different types of Early Learning and Development Programs or systems (see Table (A)(1)-8 in the application).

• The completed table that describes the elements of a high-quality family engagement strategy currently required within the State by different types of Early Learning and Development Programs or systems (see Table (A)(1)-9 in the application).

• The completed table that describes all early learning and development workforce credentials currently available in the State, including whether credentials are aligned with a State Workforce Knowledge and Competency Framework and the number and percentage of Early Childhood Educators who have each type of credential (see Table (A)(1)-10 in the application).

• The completed table that describes the current status of postsecondary institutions and other professional development providers in the State that issue credentials or degrees to Early Childhood Educators (see Table (A)(1)-11 in the application).

• The completed table that describes the current status of the State's Kindergarten Entry Assessment (see Table (A)(1)-12 in the application).

• The completed table that describes all early learning and development data systems currently used in the State (see Table (A)(1)-13 in the application).

Performance Measures

• None required.

(A)(2) Articulating the State's rationale for its early learning and development reform agenda and goals.

Evidence

Evidence for (A)(2):

• The State's goals for improving program quality statewide over the period of this grant.

• The State's goals for improving child outcomes statewide over the period of this grant.

• The State's goals for closing the readiness gap between Children with High Needs and their peers at kindergarten entry.

• Identification of the two or more selection criteria that the State has chosen to address in Focused Investment Area (C).

• Identification of the one or more selection criteria that the State has chosen to address in Focused Investment Area (D).

• Identification of the one or more selection criteria that the State has chosen to address in Focused Investment Area (E).

• For each Focused Investment Area (C), (D), and (E), a description of the State's rationale for choosing to address the selected criteria in that Focused Investment Area, including how the State's choices build on its progress to date in each Focused Investment Area (as outlined in Tables (A)(1)6-13 and the narrative under (A)(1) in the application) and why these selected criteria will best achieve the State's ambitious yet achievable goals for improving program quality, improving outcomes for Children with High Needs statewide, and closing the readiness gap between Children with High Needs and their peers.

Performance Measures

• None required.

(A)(3) Aligning and coordinating early learning and development across the State.

Evidence

Evidence for (A)(3)(a) and (b):

• For (A)(3)(a)(1): An organizational chart that shows how the grant will be governed and managed.

• The completed table that lists governance-related roles and responsibilities (Table (A)(3)-1 in the application).

• A copy of all fully executed MOUs or other binding agreements that cover each Participating State Agency. (MOUs or other binding agreements should be referenced in the narrative but must be included in the Appendix to the application).

Evidence

Evidence for (A)(3)(c)(1):

• The completed table that includes a list of every Early Learning Intermediary Organization and local early learning council (if applicable) in the State and indicates which organizations and councils have submitted letters of intent or support (Table (A)(3)-2 in the application).

• A copy of every letter of intent or support from Early Learning Intermediary Organizations and local early learning councils. (Letters should be referenced in the narrative but must be included in the Appendix with a table.)

Evidence

Evidence for (A)(3)(c)(2):

• A copy of every letter of intent or support from other stakeholders. (Letters should be referenced in the narrative but must be included in the Appendix with a table.)

Performance Measures

• None required.

(A)(4) Developing a budget to implement and sustain the work of this grant.

Evidence

Evidence for (A)(4)(a):

• The completed table listing the existing funds to be used to achieve the outcomes in the State Plan (Table (A)(4)-1 in the application).

• Description of how these existing funds will be used for activities and services that help achieve the outcomes in the State Plan.

Evidence for (A)(4)(b):

• The State's budget (completed in section VIII of the application).

• The narratives that accompany and explain the budget, and describes how it connects to the State Plan (completed in section VIII of the application).

Performance Measures

• None required.

B. High-Quality, Accountable Programs

(B)(1) Developing and adopting a common, statewide Tiered Quality Rating and Improvement System.

Evidence

Evidence for (B)(1):

• The completed table that lists each set of existing Program Standards currently used in the State and the elements that are included in those Program Standards (Early Learning and Development Standards, Comprehensive Assessment Systems, Qualified Workforce, Family Engagement, Health Promotion, Effective Data Practices, and Other), (Table (B)(1)-1 in the application).

• To the extent the State has developed and adopted a Tiered Quality Rating and Improvement System based on a common set of tiered Program Standards that meet the elements in criterion (B)(1)(a), submit—

○ A copy of the tiered Program Standards;

○ Documentation that the Program Standards address all areas outlined in the definition of Program Standards, demonstrate high expectations of program excellence commensurate with nationally recognized standards, and are linked to the States licensing system;

○ Documentation of how the tiers meaningfully differentiate levels of quality.

Performance Measures

• None required.

(B)(2) Promoting Participation in the State's Tiered Quality Rating and Improvement System.

Evidence

• Any supporting evidence the State believes will be helpful to peer reviewers.

Performance Measures

Performance Measures for (B)(2)(c):

General goals to be provided at time of application, including baseline data and annual targets:

• Number and percentage of Early Learning and Development Programs participating in the statewide Tiered Quality Rating and Improvement System, by type of Early Learning and Development Program.

(B)(3) Rating and monitoring Early Learning and Development Programs.

Evidence

• Any supporting evidence the State believes will be helpful to peer reviewers

Performance Measures

• None required.

(B)(4) Promoting Access to High-Quality Early Learning and Development Programs for Children with High Needs.

Evidence

• Any supporting evidence the State believes will be helpful to peer reviewers.

Performance Measures

Performance Measures for (B)(4)(c):

General goals to be provided at time of application, including baseline data and annual targets:

• Number of Early Learning and Development Programs in the top tiers of the Tiered Quality Rating and Improvement System, by type of Early Learning and Development Program.

• Number and Percentage of Children with High Needs who are enrolled in Early Learning and Development Programs that that are in the top tiers of the Tiered Quality Rating and Improvement System, by type of Early Learning and Development Program.

(B)(5) Validating the effectiveness of the State Tiered Quality Rating and Improvement System.

Evidence

• Any supporting evidence the State believes will be helpful to peer reviewers.

Performance Measures

• None required.

Focused Investment Areas—Sections (C), (D), and (E)

C. Promoting Early Learning and Development Outcomes for Children

(C)(1) Developing and using statewide, high-quality Early Learning and Development Standards.

Evidence

Evidence for (C)(1)(a) and (b):

• To the extent the State has implemented Early Learning and Development Standards that meet the elements in criteria (C)(1)(a) and (b), submit—

○ Proof of use by all types of Early Learning and Development Programs in the State;

○ The State's Early Learning and Development Standards for:

—Infants and toddlers

—Preschoolers

○ Documentation that the standards are developmentally, linguistically and culturally appropriate for all children, including children with disabilities and developmental delays and English Learners;

○ Documentation that the standards address all Essential Domains of School Readiness and that they are of high-quality; and

○ Documentation of the alignment between the State's Early Learning and Development Standards and the State's K-3 standards.

Performance Measures

• None required.

(C)(2) Supporting effective uses of Comprehensive Assessment Systems.

Evidence

• Any supporting evidence the State believes will be helpful to peer reviewers.

Performance Measures

• None required.

(C)(3) Identifying and addressing the health, behavioral, and developmental needs of Children with High Needs to improve school readiness.

Evidence

Evidence for (C)(3)(a):

• To the extent the State has established a progression of health standards across the levels of Program Standards that meet the elements in criterion (C)(3)(a), submit—

○ The progression of health standards used in the Program Standards and the State's plans for improvement over time, including documentation demonstrating that this progression of standards appropriately addresses health and safety standards; developmental, behavioral, and sensory screening, referral, and follow-up; health promotion including healthy eating habits, improved nutrition, and increased physical activity; oral health; and social and emotional development; and health literacy among parents and children;

Evidence for (C)(3)(b):

• To the extent the State has existing and projected numbers and percentages of Early Childhood Educators who receive training and support in meeting the health standards, the State shall submit documentation of these data. If the State does not have these data, the State shall outline its plan for deriving them.

Evidence

Evidence for (C)(3)(c):

• Any supporting evidence the State believes will be helpful to peer reviewers.

Performance Measures

• None required.

Evidence

Evidence for (C)(3)(d):

• Documentation of the State's existing and future resources that are or will be used to address the health, behavioral, and developmental needs of Children with High Needs. At a minimum, documentation must address the screening, referral, and follow-up of all Children with High Needs; how the State will promote the participation of Children with High Needs in ongoing health care as part of a schedule of well-child care; how the State will promote healthy eating habits and improved nutrition as well as increased physical activity for Children with High Needs; and how the State will promote health literacy for children and parents.

Performance Measures

Performance Measures for (C)(3)(d):

General goals to be provided at time of application, including baseline data and annual targets:

• Number of Children with High Needs Screened;

• Number of Children with High Needs referred for services and received follow-up/treatment;

• Number of Children with High Needs that participate in ongoing health care as part of a schedule of well-child care;

• Of these participating Children with High Needs, the number or percentage of children who are up-to-date in receiving services as part of a schedule of well-child care.

(C)(4) Engaging and supporting families.

Evidence

Evidence for (C)(4)(a):

• To the extent the State has established a progression of family engagement standards across the levels of Program Standards that meet the elements in criterion (C)(4)(a), submit—

○ The progression of culturally and linguistically appropriate family engagement standards used in the Program Standards that includes strategies successfully used to engage families in supporting their children's development and learning. A State's family engagement standards must address, but need not be limited to: Parent access to the program, ongoing two-way communication with families, parent education in child development, outreach to fathers and other family members, training and support for families as children move to preschool and kindergarten, social networks of support, intergenerational activities, linkages with community supports and adult and family literacy programs, parent involvement in decision making, and parent leadership development;

○ Documentation that this progression of standards includes activities that enhance the capacity of families to support their children's education and development.

Evidence

Evidence for (C)(4)(b):

• To the extent the State has existing and projected numbers and percentages of Early Childhood Educators who receive training and support on the family engagement strategies included in the Program Standards, the State shall submit documentation of these data. If the State does not have these data, the State shall outline its plan for deriving them.

Evidence

Evidence for (C)(4)(c):

• Documentation of the State's existing resources that are or will be used to promote family support and engagement statewide, including through home visiting programs and other family-serving agencies and the identification of new resources that will be used to promote family support and engagement statewide.

Performance Measures

• None required.

D. A Great Early Childhood Education Workforce

(D)(1) Developing a Workforce Knowledge and Competency Framework and a progression of credentials.

Evidence

Evidence for (D)(1):

• To the extent the State has developed a common, statewide Workforce Knowledge and Competency Framework that meets the elements in criterion (D)(1), submit:

○ The Workforce Knowledge and Competencies;

○ Documentation that the State's Workforce Knowledge and Competency Framework addresses the elements outlined in the definition of Workforce Knowledge and Competency Framework in the Program Definitions section of this notice and is designed to promote children's learning and development and improve outcomes.

Performance Measures

• None required.

(D)(2) Supporting Early Childhood Educators in improving their knowledge, skills, and abilities.

Evidence

• Any supporting evidence the State believes will be helpful to peer reviewers.

Performance Measures

Performance Measures for (D)(2)(d): General goals to be provided at time of application, including baseline data and annual targets:

• (D)(2)(d)(1): Number of postsecondary institutions and professional development providers that are aligned to the State's Workforce Knowledge and Competency Framework, and the number of Early Childhood Educators receiving credentials from those aligned postsecondary institutions or professional development providers.

• (D)(2)(d)(2): Number and percentage of Early Childhood Educators who are progressing to higher levels of credentials that align with the State's Workforce Knowledge and Competency Framework.

E. Measuring Outcomes and Progress

(E)(1) Understanding the status of children's learning and development at kindergarten entry.

Evidence

• Any supporting evidence the State believes will be helpful to peer reviewers.

Performance Measures

• None required.

(E)(2) Building or enhancing an early learning data system to improve instruction, practices, services, and policies.

Evidence

• Any supporting evidence the State believes will be helpful to peer reviewers.

Performance Measures

• None required.

BILLING CODE 4000-01-P

[FR Doc. 2011-21756 Filed 8-25-11; 8:45 am]

BILLING CODE 4000-01-C